DEPARTMENT OF DEFENSE

Department of the Navy

Record of Decision for Improved Ordnance Storage for Marine Corps Air Station (MCAS) Yuma, AZ

AGENCY: Department of the Navy, Department of Defense.

ACTION: Notice of Record of Decision.

SUMMARY: The Department of the Navy, after carefully weighing the operational, environmental and cost implications of improving the ordnance storage at MCAS Yuma, announces its decision to acquire and develop 1,641 acres of agricultural and residential land south of MCAS Yuma.

SUPPLEMENTARY INFORMATION: The text of the entire Record of Decision (ROD) is provided as follows:

Background

The Department of the Navy, pursuant to Section 102(2)(c) of the National Environmental Policy Act (NEPA) of 1969 (42 USC Section 4331 et seq.), and the regulations of the Council on Environmental Quality (CEQ) that implement NEPA procedures, (40 CFR Parts 1500-1508), hereby announces its decision to acquire 1,641 acres of land south of MCAS Yuma, Arizona, for the improvement of ordnance storage and other support functions. This decision includes the following actions, which are described in more detail in the Environmental Impact Statement. The Department of the Navy will construct and operate:

(1) A Combat Aircraft Loading Area (CALA);

(2) A new station ordnance area (including ordnance loading and unloading facilities, ordnance storage magazines, support buildings, guard shacks, and a security fence);

(3) A fire station; and

(4) Compounds for Marine Wing Support Squadron (MWSS)-371 and Combat Service Support Detachment (CSSD)-16.

These improvements will provide safer handling and storage of ordnance, and less expensive and more efficient ordnance operations. The proposed action is needed to support existing training and other ongoing activities at MCAS Yuma. None of the components of the proposed action are associated with an increase in the number of mission flown at MCAS Yuma or a change in its mission. The level of flight operations is not dependent on ordnance storage capacity. MCAS Yuma's ordnance storage capacity has remained relatively constant over the last several years. All components of the proposed action have been designed based on MCAS Yuma's historic ordnance use and operation levels.

The Notice of Intent (NOI) to prepare an Environmental Impact Statement (EIS) for improved ordnance storage for Marine Corps Air Station Yuma, Arizona, was published in the Federal Register on December 17, 1996. Two public scoping meetings were held in January 1997 to allow for public comments.

The public scoping meetings were attended by a total of 20 persons, with only one person providing formal testimony; however, that person made no specific comments which addressed the scope of the EIS. An additional 13 individuals, state, and local agencies submitted comments via letter, facsimile or electronic mail.

The Draft Environmental Impact Statement (DEIS) was distributed to agencies and officials of federal, state and local governments, citizen groups and organizations, and other interested parties including landowners within the potential acquisition area, during the week of January 25-29, 1999.

The Notice of Availability for the DEIS was published in the Federal Register on January 29, 1999. The DEIS was subject to public review during a 60-day public comment period. The Marine Corps also held two public hearings during the public comment period on February 17 and 23, 1999. The public hearings were held at the Ramada Inn at the Chilton Conference Center in Yuma, AZ.

Comments on the DEIS were received by letter, by oral statements provided during the public hearings, and written statements received by facsimile. Written and oral statements were received from a total of 21 commentors, including federal, state, regional, and local agencies, and private individuals. All comments received were reviewed and addressed in the FEIS.

The FEIS was distributed to the public on July 21, 1999. The public review period ended on September 30, 1999. Nineteen comments were received on the FEIS and were considered before issuing this ROD.

Alternatives Considered

NEPA and CDQ regulations require the Department of the Navy to study and evaluate a reasonable range of alternatives for accomplishing the purpose and need underlying the proposed action. The underlying purpose for improved ordnance storage at MCAS Yuma is to: (1) Eliminate the use of safety waivers associated with ordnance handling an storage at MCAS Yuma; (2) provide an ordnance storage capacity able to accommodate MCAS Yuma's annual average ordnance requirement; (3) provide space for the relocation of existing MCAS Yuma facilities; and (4) meet objectives (1) and (2) without increasing staffing requirements at MCAS Yuma.

The EIS process initially identified nine alternatives, including the No Action alternative. These included five alternatives identified in the NOI and four alternatives developed as a result of the public scoping process. Four alternatives were evaluated in detail in the EIS: the 1,641 Acre Alternative, the 1,069 Acre Alternative, the Barry M. Goldwater Range (BMGR) Alternative, and the No Action Alternative.

The 1,641 Acre Alternative involved the acquisition and development of 1,641 acres of land. This alternative was identified as the preferred alternative in the EIS. Under this alternative, the Department of Navy will acquire approximately 1,641 acres of agricultural and residential land to the south of MCAS Yuma and construct and operate the following new facilities in that area: a Combat Aircraft Loading Area (CALA), a new station ordnance area (including ordnance loading and unloading facilities, ordnance storage magazines, support buildings, guard shacks, and a security fence), a fire station, and compounds for MWSS-371 AND CSSD-16.

The new CALA and station ordnance areas are to be constructed in the western portion of the acquisition area. Most land in the acquisition area's central section will be within new Explosive Safety Quantity Distance (ESQD) arcs and will remain in agricultural production. Approximately 1,184 acres of agricultural and vacant lands within the acquisition area will not be cleared for the new military facilities. This land will be out-leased for continued agricultural use. A new fire station, MWSS-371 compound, and CSSD-16 compound will ultimately be located in the eastern third of the acquisition area. The facilities proposed for the eastern third of the acquisition area were addressed for the eastern third of the acquisition area were addressed at a programmatic level in the EIS because specific plans for their construction have not been developed. Additional evaluation under NEPA will be required prior to the construction of a new fire station or new compounds for MWSS-371 or CSSD-16. In the interim, this land will be made available for agricultural out-lease.

This is the only alternative that fully meets the Department's Purpose and Need. The alternative includes significant and unmitigated socioeconomic impacts because it requires the relocation of residents living in eleven homes on the land to be acquired.

The relocation of residents will be accomplished in compliance with the Uniform Relocation Assistance and Real Property Acquisition Policies Act of 1970, as amended (42 U.S.C. 4601 et seq.). Compliance with this act will ensure displaced residents are relocated to a decent, safe, and sanitary home. All eligible displaced residents will be entitled to moving expenses. This program cannot substantially mitigate the loss of social ties, upheaval, and sense of loss that may be experienced by the individuals to be relocated. Therefore, while the economic effects of displacement will be reduced through compliance with the Uniform Relocation Assistance and Real Properties Act of 1970, the significant social impacts are considered unmitigable. No other significant impacts were identified for the Preferred Alternative.

The 1,069 Acre Alternative involved the acquisition and development of 1,069 acres of land to the south of MCAS Yuma. The land required for this alternative is encompassed entirely within the acquisition area identified above for the Preferred Alternative. This alternative would utilize the same CALA and ordnance storage magazines that are described for the Selected Alternative. However, the 1,069 Acre Alternative would not provide space for a new fire station or for the relocation of MWSS-371 and CSSD-16.

The BMGR Alternative would require the acquisition of 482 acres of land to the southeast of MCAS Yuma and the construction of a new CALA and associated structures at that location. Ordnance would be stored in new magazines constructed off-station at the BMGR in an approximately 4-square-mile (10-square- kilometer) area. Under this alternative, flat-tailed horned lizards would be significantly affected, and the transportation of ordnance between the BMGR and MCAS Yuma could result in adverse safety impacts to residents located along the route between the two facilities. Additionally, it would not provide space for a new fire station or for the relocation of MWSS-371 and CSSD-16, and it would increase staffing requirements at MCAS Yuma.

The No Action alternative requires no change in existing operations at MCAS Yuma. Ordnance storage would continue to require a waiver and the ESQD arc associated with the storage area would continue to extend off station. Ordnance truck trips would remain at current levels.

The environmentally preferred alternative is generally one that avoids or minimizes environmental impacts or results in a net beneficial environmental effect. In this case, the No Action Alternative is the environmentally preferred alternative because it would not require land acquisition and relocation of homeowners and would not have adverse physical impacts on the environment. The environmentally preferred alternative was not selected because it would not have fulfilled the primary and secondary objectives of the proposed action.

Environmental Impacts

There were no significant environmental impacts associated with the selected alternative. However, the Department of the Navy will initiate measures, described in the EIS, to mitigate impacts resulting from the action being taken. With the adoption of the measures identified in the EIS, the Department of the Navy has exercised all practicable means to avoid or minimize harm from the alternative selected.

Response to Comments

The Department of the Navy made the FEIS available to the public for a a 30-day review period. This review period was extended for an additional 30 days period. During the review period 19 comments were received: eight supporting the action and 11 opposed. The governmental bodies of Yuma City and Yuma County support the selected alternative. Opposition continues from the property owners and citrus and crop growers. No new substantive comments were received that were not previously addressed in the Draft and Final Environmental Impact Statements.

Conclusion

On behalf of the Department of the Navy, I have decided to implement the 1,641 Acre Alternative, as set out in the EIS, to improve ordnance storage at MCAS Yuma. In making this decision, I considered the following: existing assets and capabilities at MCAS Yuma; Marine Corps, Navy, DoD and allied operational and training requirements; ordnance handling and storage requirements; environmental impacts; socioeconomic impacts; costs associated with land acquisition and facility construction, the operation and maintenance of equipment and aircraft, and training of personnel; and comments received during the EIS process.

After carefully weighing all of these factors, I have determined that the Preferred Alternative, acquiring and developing 1,641 acres of agricultural and residential land to the south of MCAS Yuma, best meets the requirements.

Dated: February 1, 2000.
Duncan Holaday,
Deputy Assistant Secretary of the Navy (Installations and Facilities).

[FR Doc. 00-3204 Filed 2-10-00; 8:45 am]

BILLING CODE 3810-FF-M